DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 66 FR 56333-34, dated November 7, 2001).

This notice establishes the Office for the Advancement of Telehealth and revises the functional statement for the Office of Policy and Program Development (RV3) in the HIV/AIDS Bureau (RV).

1. Establish the Office for the Advancement of Telehealth as follows:

Office for the Advancement of Telehealth (RV9)

Telehealth is the use of electronic communications and information technologies to provide and support health care services and training when distance separates the participants. The Office for the Advancement of Telehealth (OAT) serves as the focal point for coordinating and advancing the use of electronic communications and information (telehealth) technologies across all of HRSA's programs. Telehealth information can be used in a broad array of applications, including, but not limited to, the provision of: health care at a distance (telemedicine); distance-based learning to improve the knowledge of the agency grantees, and others; and improved information dissemination to both consumers and providers about the latest developments in health care, and other activities designed to improve the health status of the nation. The Office for the Advancement of Telehealth carries out the following functions, specifically; (1) provides leadership in developing and coordinating telehealth programs and policies; (2) provides professional assistance and support in developing telehealth initiatives; (3) administers grant programs to promulgate and evaluate the use of appropriate telehealth technologies among grantees and others; (4) in conjunction with HRSA's OIT assesses new and existing telehealth technologies and advises on strategies to maximize the potential of these technologies for meeting educational and technical assistance objectives; (5) in conjunction with OIT disseminates the latest information and research findings related to the use of telehealth technologies in the agency programs and underserved areas, including findings on “best practices”; (6) works with other components of the Department, with other Federal and state agencies, and with the private sector to promote and overcome barriers to cost-effective telehealth programs; and (7) provides advise on telehealth policy.

2. Abolish the functional statement for the Office of Policy and Program Development (RV3) in its entirety and replace with the following:

Office of Policy and Program Development (RV3)

Serves as the Bureau's focal point for program planning and related coordination activities including the development and dissemination of program objectives, alternatives, policy statements and the formulation and interpretation of program related policies. Specifically: (1) Advises the Associate Administrator and Division Directors in the development of plans and proposals to support Administration goals, and serves as the primary staff unit on special projects for the Associate Administrator; (2) coordinates with the Office of Planning and Evaluation, HRSA, and other appropriate offices in the preparation of HIV/AIDS-related program policies including the preparation of testimony and related information to be presented to the Congress; (3) monitors and analyzes HIV/AIDS-related policy developments, both within and outside the Department, for their potential impact on HIV/AIDS activities, and advises the Associate Administrator on alternative courses of action for responding to such developments; (4) organizes, guides, and coordinates the Bureau's program planning and development activities, and prepares the Bureau's strategic planning agenda; (5) provides staff services and coordinates activities pertaining to policy and position papers to assure the fullest possible consideration of programmatic requirements in meeting established departmental, and HRSA goals; (6) maintains liaison with the Agency, Department, and other agencies; (7) participates in the development and coordination of program policies and implementation plans, including the development, clearance, and dissemination of regulations, criteria, guidelines, and operating procedures; (8) serves as the point of contact for the Agency, developing and coordinating working relationships and conducts specific joint activities among programs to assure optimum interaction on related HIV/AIDS activities and to minimize duplication and overlap; (9) conducts special inquiries and studies with emphasis on coordinating, managing and/or undertaking special projects which cut across Office or Division lines and responsibilities; (10) coordinates Bureau and HRSA comments on HIV/AIDS-related reports, position papers, and related issues; (11) coordinates responses to requests for information received from other OPDIVs of the Department and from outside the Department; (12) provides program policy interpretation and technical assistance to other governmental and private organizations and institutions; and (13) develops and coordinates performance measures.

3. In the HIV/AIDS Bureau, abolish the Office of Communications and Information Dissemination (RV8).

Delegation of Authority

All delegations and redelegations of authorities to officers and employees of the Health Resources and Services Administration which were in effect immediately prior to the effective date of this action will be continued in effect in them or their successors, pending further redelegation, provided they are consistent with this action.

This document is effective upon date of signature.

Dated: November 30, 2001.
Elizabeth M. Duke,
Acting Administrator.

[FR Doc. 01-30233 Filed 12-5-01; 8:45 am]

BILLING CODE 4165-15-P